DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

U.S. Patent No. 5,656,933: SOLDER PASTE AND RESIDUE MEASUREMENT SYSTEM, Navy Case No. 76777, Inventors Frederickson et al, Issue date August 12, 1997.//U.S. Patent No. 5,721,632: EXCITED STATE POLARIZATION ALTERING OPTICAL FILTER, Navy Case No. 76540, Inventors Billmers et al, Issue date February 24, 1998.//U.S. Patent No. 5,822,045: MODULATOR LIDAR SYSTEM Navy Case No. 77098, Inventors Contarino et al, Issue date October 13, 1998.//Navy Case No. 95903: BOND INTEGRITY TOOL, Inventors Oh et al, U.S. Patent Application No. 11/417,287 filed May 01, 2006.//U.S. Patent No. 5,875,154: BARREL STAVE FLEXITENSIONAL PROJECTOR, Inventor DeChico, Issue date February 23, 1999.//U.S. Patent No. 5,921,294: AIR REFUELING DROGUE, Inventors Greenhalgh et al, Issue date July 13, 1999.//Navy Case No. 96400: APPARATUS AND METHOD TO AMALGAMATE SUBSTANCES, Inventors Wolfe et al, U.S. Patent Application No. 11/357,460 filed February 14, 2006. U.S. Patent No. 6,411,450: METHOD OF ASSESSING THE EFFECTIVENESS OF A LASER EYE PROTECTION DEVICE, Navy Case No. 82425, Inventors Gatewood Jr. et al, Issue date June 25, 2002.//U.S. Patent No. 7,010,339: HYBRID LIDAR-RADAR FOR MEDICAL DIAGNOSTICS, Navy Case No. 82987, Inventors Mullen et al, Issue date March 07, 2006.// U.S. Patent No. 7,025,304: HELICOPTER MESSENGER CABLE ILLUMINATION, Navy Case No. 83822, Inventor Kolliopoulo, Issue date April 11, 2006.

DATES: Request for data, samples, and inventor interviews should be made prior to August 31, 2006.

ADDRESSES: Request for data and inventor interviews should be directed to Mr. Paul Fritz, Naval Air Warfare Center Aircraft Division, Business Office, Office of Research and Technology Applications, Building 505, Room 116, 22473 Millstone Road, Patuxent River, MD 20670, telephone 301-342-5586 or E-Mail Paul.Fritz@navy.mil.

FOR FURTHER INFORMATION CONTACT: Mr. Hans Kohler, Office of Research and Technology Applications, Building 150/2, Naval Air Warfare Center Aircraft Division, Lakehurst, NJ 08733-5060, telephone 732-323-2948 or E-Mail Hans.Kohler@navy.mil, or Mr. Paul Fritz, Office of Research and Technology Applications, Building 505; Room 116, Naval Air Warfare Center Aircraft Division, 22473 Millstone Road, Patuxent River, MD 20670, telephone 301-342-5586 or E-Mail Paul.Fritz@navy.mil.

SUPPLEMENTARY INFORMATION: The Navy intends to move expeditiously to license these inventions. All licensing application packages and commercialization plans must be returned to Naval Air Warfare Center Aircraft Division, Business Development Office, Office of Research and Technology Applications, Building 505; Room 116, 22473 Millstone Road, Patuxent River, MD 20670.

The Navy, in its decisions concerning the granting of licenses, will give special consideration to existing licensee's, small business firms, and consortia involving small business firms. The Navy intends to ensure that its licensed inventions are broadly commercialized throughout the United States.

PCT application may be filed for each of the patents as noted above. The Navy intends that licensees interested in a license in territories outside of the U.S. will assume foreign prosecution and pay the cost of such prosecution.

Authority: 35 U.S.C. 207, 37 CFR part 404.

Dated: July 12, 2006.
M.A. Harvison,
Lieutenant Commander, Judge Advocate General's Corps, U. S. Navy, Federal Register Liaison Officer.

[FR Doc. E6-11420 Filed 7-18-06; 8:45 am]

BILLING CODE 3810-FF-P